DEPARTMENT OF COMMERCE

National Oceanic and Atmospheric Administration

RIN 0648-XV039

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC's) Summer Flounder, Scup, and Black Sea Bass Monitoring Committee (MC) will hold a public meeting.

DATES: The meeting will be held on Monday, September 16, 2019, from 1 p.m. to 5 p.m., and on Tuesday, September 17, 2019, from 8:30 a.m. to 1 p.m. For agenda details, see SUPPLEMENTARY INFORMATION.

ADDRESSES: The meeting will be held at the Hyatt Place Inner Harbor, 511 South Central Avenue, Baltimore, MD 21202; telephone: (410) 558-1840.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Summer Flounder, Scup, and Black Sea Bass Monitoring Committee will meet to review the previously implemented 2020 commercial and recreational Annual Catch Limits (ACLs), Annual Catch Targets (ACTs), and landings limits for summer flounder, and to recommend new 2020-2021 ACLs, ACTs, and landings limits for scup and black sea bass. The Monitoring Committee will also review the commercial management measures for all three species and may recommend changes for 2020 and beyond if necessary. For scup, the Monitoring Committee will review and provide feedback on an evaluation of commercial discards. Finally, the Monitoring Committee will begin to plan for the development of recreational measures for 2020 in preparation for their recreational measures meeting later this fall. Meeting materials will be posted to http://www.mafmc.org/ prior to the meeting.

Special Accommodations

The meeting is physically accessible to people with disabilities. Requests for sign language interpretation or other auxiliary aids should be directed to M. Jan Saunders at the Mid-Atlantic Council Office (302) 526-5251 at least 5 days prior to the meeting date.

Dated: August 22, 2019.
Tracey L. Thompson,
Acting Deputy Director, Office of Sustainable Fisheries, National Marine Fisheries Service.

[FR Doc. 2019-18458 Filed 8-26-19; 8:45 am]

BILLING CODE 3510-22-P